DEPARTMENT OF JUSTICE

National Institute of Corrections

Solicitation for a Cooperative Agreement: Developing a Method for Conducting an Internal Evaluation of Gender-Informed Policy and Practice

AGENCY: National Institute of Corrections, U.S. Department of Justice.

ACTION: Solicitation for a Cooperative Agreement.

SUMMARY: The National Institute of Corrections (NIC) is seeking applications from organizations, groups, or individuals to enter into a cooperative agreement for an 18-month period to develop and pilot a methodology for correctional organizations to conduct an internal evaluation of their current policy and practice for working with women offenders. This methodology must cover a broad range of domains, such as leadership, external collaboration, management and operations, sanctions, assessment and case planning, and programs and services. The methodology must be concise but informative enough to be used by an organization with an understanding of evidence-based practices that incorporate gender-informed research and information. Additional consideration may be given to an applicant who can incorporate into the methodology those elements applicable to institutional and community corrections environments. The methodology should also include supplemental information that addresses an organization's readiness for change and a template that will help organizations initiate an internal strategic planning process. This award will also cover the piloting of the methodology, which should include both onsite work and use of Web-based technology, post-pilot revisions to the methodology based on feedback, and a design for conducting a process evaluation to measure the efficacy of the methodology.

The goal of this solicitation is to create and provide a methodology for organizations to (1) Conduct an abbreviated internal evaluation of their policies and practices specific to women and (2) begin to plan strategically to initiate the type of change required within their agency to reach their desired objectives. Information gathered by organizations using this methodology could also form the basis for resource requests from funding entities, formulation of technical assistance requests to external sources, and a vehicle to advance internal quality assurance. The awardee will work closely with designated NIC staff on all aspects of the project to ensure understanding of and agreement on the scope of work to be performed, and to work with other identified experts as well who are recognized for their expertise and practical experience in working with justice-involved women.

To be considered, applicants must demonstrate, at a minimum: In-depth knowledge of research and practice regarding gender-informed (women) and evidence-based practices, organizational readiness, strategic planning, and process evaluation; In-depth knowledge of the practices, programs, and complexities specific to the operation of women's correctional facilities and awareness of the issues relevant to women on community release and under supervision; In-depth knowledge about the risks, needs, strengths, and capacity for resiliency with justice-involved women; Specific examples of expertise in directing project design and implementation; Demonstrated ability to work collaboratively with other experts in the field of gender-informed practices; Ability and capacity to conduct Web-based events.

DATES: Applications must be received by 4 p.m., EDT, August 24, 2011.

ADDRESSES: Mailed applications must be sent to: Director, National Institute of Corrections, 320 First St., NW., Room 215, Washington, DC 20534.

Applicants are encouraged to use Federal Express, UPS, or similar service to ensure delivery by the due date.

Hand delivered applications should be brought to 500 First St., NW., Washington, DC 20534. At the front security desk, dial 7-3106, ext. 0 for pickup. Faxed or e-mailed applications will not be accepted. Electronic applications can only be submitted via http://www.grants.gov.

FOR FURTHER INFORMATION CONTACT: A copy of this announcement and links to the required application forms can be downloaded from the NIC Web site at http://www.nicic.gov.

All technical or programmatic questions concerning this announcement should be directed to Maureen Buell, Correctional Program Specialist, National Institute of Corrections, Administrative Division. Ms. Buell can be reached directly at 1-800-995-6423 ext. 40121 or by e-mail at mbuell@bop.gov. In addition to the direct reply, all questions and response will be posted on NIC's Web site at http://www.nicic.gov for public review (the names of those submitting questions will not be posted). The Web site will be updated regularly and postings will remain on the Web site until the closing date of this cooperative agreement solicitation. Only questions received by 12 p.m. (EDT) on August 19, 2011 will be answered.

SUPPLEMENTARY INFORMATION:

Overview: The goal of the solicitation is to provide organizational leaders and managers across the corrections continuum (jails, prisons, community corrections) with a method to (1) Begin to internally evaluate the existence of internal policy and practice and their applicability to justice-involved women by using evidence-based practices and gender-informed research and knowledge as a foundation, (2) identify gaps and strengths in current services, and (3) provide sufficient guidance for an organization to begin to strategize desired internal change. NIC has incorporated much of the evidence-based, gender-informed research and knowledge into a variety of products that can be accessed on the NIC Web site at http://www.nicic.gov and on NIC's women offender Web page at http://www.nicic.gov/womenoffenders.

Background: NIC has provided a broad range of services to organizations that wanted to develop, enhance, and/or revise their policies and practices to better manage their increasing population of justice-involved women. Systems are often overwhelmed with the increasing numbers of women, surpassing the rate at which men have been entering the system. From 1995 to 2005, the total number of female prisoners increased 57% compared to a 34% increase in male prisoners (Harrison & Beck (2006) Prison and Jail Inmates at Midyear 2005 (NCJ Publication No. 213133). The increasing female population has presented numerous challenges to the current corrections paradigm, including overuse of higher security beds driven by classification systems not validated for women; a lack of appropriate and effective resources targeting women's assessed risks and needs; and the low rates of success experienced by this population, evidenced by the high rate of returns due to technical violations rather than new convictions. Women offenders experience all of this despite the fact that, except for a small percentage, justice-involved women present lower rates of both institutional and community safety risk. Some current correctional practices also have had the unintended consequence of “driving women deeper into the system.”

In an attempt to deal with these challenges, organizations often will make piecemeal change (offer a parenting program or have female facilitators lead established programs), which has limited positive impact with women on items that are measured (e.g., recidivism data, program participation, numbers and types of disciplinary reports). However, as more organizations become familiar with the emerging research, they are interested in making broader, long lasting change but often do not know where to start. To try to understand the problem more thoroughly, NIC took a current and retrospective look at the nature of technical assistance requests specific to justice-involved women and noted a consistent theme. Although the details of the requests varied, they all, in some way, were requesting assistance to improve management of their women's population. The following are examples of common technical assistance requests: (a) Mission has changed. (b) The men have moved to another facility and women are being transferred to a facility that was designed for and has historically housed only male offenders. (c) A jurisdiction is building a new facility for women and would like it to be the best in the country, incorporating the gender-informed research. (d) Staff receive one hour of training in the academy specific to working with women. They want to design an effective training program that they can use in-house for their staff that is specific to their needs and population. (e) Women are surpassing men with their rates of technical violations resulting in revocations and returns to prison. They want NIC to assess their policies and procedures for women and determine whether they are effective. (f) There are few options for housing. Women at various custody levels are housed together. Although the jurisdiction hasn't had any major assaultive events, they need assistance in managing the population given their current environment. (g) Women are emerging from incarcerative settings with few resources but significant responsibilities. Many of them are caring for children with substandard housing, no job prospects or visible source of income; parole or court-ordered conditions of supervision with no transportation; and really little more than what is on their backs. How can a jurisdiction work successfully with the challenges reentering women present? (h) Current classifications systems are not accurately reflecting risk and need for women. The facility ends up overriding the instruments. They need assistance in reviewing their current assessment and classifications tools for women and want recommendations for improvement. (i) The jurisdiction is overwhelmed with the needs of its mental health population. They know they need to include trauma-informed practices to both benefit the women offenders and their staff who interact with them daily.

This is but a small sampling of requests over the years, but it was the impetus for collecting and organizing the emerging research and knowledge on women offenders.

Fortunately, as the rate of women entering our nation's justice systems was dramatically increasing, also emerging was a body of work that has had significant impact on the field of corrections. Evidence-based practices or risk reduction research, considered to be gender-neutral, and the gender-informed research that has identified and articulated specific areas that are unique to and/or occur with increased frequency with women. The latter body of work has provided opportunities to sharpen our knowledge and practices regarding areas that contribute to risk for women. NIC has paid considerable attention to these emerging bodies of work and has collected and organized this information into a set of domains that impact a wide range of practices in women's facilities and in community corrections environments. This information is continuously incorporated into NIC's current and emerging products and services and has informed technical assistance to the field.

The development of an internal evaluation methodology that contains the items drawn from both the evidence-based and gender-informed bodies of research and is in a concise and accessible format provides an opportunity for agency leadership and management to assess policy and practices that can contribute to or detract from an organization's overall effectiveness in managing justice-involved women. It is also a tool that can prepare an organization for requesting technical assistance, additional funding, or enhancing internal quality assurance.

Purpose: This methodology will be concise and informative, incorporating evidence-based and gender-informed items to be used by an organization to reasonably conduct an internal evaluation of their policy and practice specific to their population of justice-involved women. Ideally this methodology will inform policy and practice in the operation of a women's facility and in effectively supervising women in a community corrections environment.

Scope of Work: It will include an overview of the methodology, sources of items chosen for inclusion, description of the format, description of how an organization should apply the methodology, including the tasks of the internal team, a description of the piloting process, and instructions on how an organization will rate or prioritize the items as they are evaluated internally. Also included in the methodology is guidance to correctional organizations on assessing organizational readiness and strategic planning for the purposes of advancing the work with their population of justice-involved women based on the findings of their internal evaluation. Finally, the applicant must describe a process for how a pilot site or sites will be chosen. As stated, the final product will reflect revisions made to the methodology after a pilot(s) has been completed and will include a plan for process evaluation. The awardee must submit a detailed work plan with timelines and milestones for accomplishing project activities to the assigned NIC correctional program specialist (CPS) for approval prior to any work being performed under this agreement and must designate a point of contact that will serve as the conduit of information between the CPS and the awardee.

Examples of issues for applicants to consider for this project include creation of methodology that is concise and easy to understand yet provides enough detail to ensure that a wide range of practices are evaluated relative to the research and knowledge on justice-involved women. The intent of this solicitation is to assist agencies in accurately evaluating internal practices for working with women, with improved management and outcomes as an objective. This type of evaluation runs the risk of resulting in a “halo effect.” That is, agencies are at risk of undermining objectivity when an internal team looks at their own internal practices. In order for an agency to conduct an internal evaluation of their practices, initial work must be completed, including accessing relevant data, knowledge of current policy and practice, and a general vision of what the agency would like to achieve. Internal evaluators may have limited knowledge about evidence-based and gender-informed practice for women offenders, may not believe there should be differences in policy and practice between male and female populations or could misinterpret the intent of items in the methodology. The applicant must consider the challenges identified above and propose strategies for successfully addressing those areas within the context of this project. Applicants are encouraged to identify and address additional issues and challenges that they believe will impact the successful development of this project.

Document Length: The length of the document should be determined by content—brevity and clarity are encouraged.

Intended Audience: The primary audience for this product is the leadership and management of correctional organizations. The document will also be useful for management of correctional institutions for women and community corrections organizations in the supervision of women.

Distribution: This product is intended to be distributed widely and made available to the corrections field. It will be available on the NIC Web site and available free of charge through the NIC Information Center.

Final Product: The completed materials will have received editing from a professional editor. Ideally, materials will be electronically based. The awardee must follow the Guidelines for Preparing and Submitting Manuscripts for Publication as found in the “General Guidelines for Cooperative Agreements,” which will be included in the award package. The awardee will deliver the final product to NIC in hard copy and on disk in Word format. NIC will be responsible for the final editing process and document design, but the awardee will remain available during this time to answer questions and to make revisions to the document. The awardee must also ensure that all products meet NIC's standards for accessibility and Section 508 compliance.

Meetings: The cooperative agreement awardee will attend an initial meeting with NIC staff for a project overview and preliminary planning. This will take place shortly after the cooperative agreement is awarded and will be held in located to be mutually determined. Washington, DC. Additionally, the awardee should plan to meet with NIC staff routinely as agreed upon by NIC and the awardee during the course of the cooperative agreement. Meetings will be held no less than quarterly and may be conducted via webinar or in person as agreed upon by NIC and the awardee.

Application Requirements: An application package must include OMB Standard Form 424, Application for Federal Assistance; a cover letter that identifies the audit agency responsible for the applicant's financial accounts as well as the audit period or fiscal year under which the applicant operates (e.g. July 1 through June 30); an outline of projected costs with the budget and strategy narratives described in the announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.gov/Downloads/PDF/certif-frm.pdf).

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via http://www.grants.gov.

The project summary/abstract portion of the application should be brief and include: A summary of the application's project description. The summary must be clear, accurate, and concise without reference to other parts of the application; A brief description of the critical elements of the proposed project, including the goals and objectives for the project and how strategies proposed meet those goals and objectives.

Please place the following at the top of the abstract: Project title, applicant name (legal name of applicant organization), mailing address, e-mail address, Web site address and contact phone numbers, including voice and fax, where applicable.

The narrative portion of the application should include at a minimum: A statement indicating the applicant's understanding of the project's purpose, goals and objectives. The applicant should state this in language other than that used in the solicitation (i.e., do not simply repeat the wording from the solicitation); Project design and implementation: This section should describe key design points, implementation issues, and opportunities; Project evaluation: This section will describe the design of the proposed process evaluation; Project Management: Charts of measurable milestones and timelines for the completion of each milestone; Capabilities and competencies: This section should describe the qualifications of the applicant organization and any partner organizations to do the work proposed and the expertise of key staff to be involved in the project. Attach resumes that document relevant knowledge, skills, and abilities to complete the project for the principals and staff members assigned to the project; Budget: The budget should detail all costs for the project, show consideration for all contingencies for the project, a commitment to work within the proposed amount, and demonstrate the ability to provide deliverables reasonably according to schedule.

Authority: Public Law 93-415.

Funds Available: NIC is seeking the applicant's best ideas regarding accomplishment of the scope of work and the related costs for achieving the goals of this solicitation. Funds may be used only for the activities that are linked to the desired outcome of the project. The funding amount should not exceed $120,000.

Eligibility of Applicants: An eligible applicant is any state or general unit of government, private agency, educational institution, organization, individual, or team with expertise in the described areas. Applicants must have demonstrated ability to implement a project of this size and scope.

Review Considerations: Applications will be reviewed by a team. Among the criteria used to evaluate the applications are indication of a clear understanding of the project requirements; background, experience, and expertise of the proposed project staff, including any sub-contractors; effectiveness of an innovative approach to the project; clear, concise description of all elements and tasks of the project, with sufficient and realistic timeframes necessary to complete the tasks; technical soundness of project design and methodology; financial and administrative integrity of the proposal, including adherence to Federal financial guidelines and processes; a sufficiently detailed budget that shows consideration of all contingencies for this project and commitment to work with the budget proposed; and indication of availability work with NIC staff.

Programmatic: 40 Points.

Are all of the elements and tasks as outlined in the proposal fully and clearly addressed? Is there a clear description of how each project activity will be accomplished, including major tasks; the strategies to be employed; required staffing; responsible parties, and other required resources? Are there any unique or exceptional approaches, techniques, or design aspects proposed that will enhance the project?

Project Management, Administration and Budget: 30 Points.

Does the applicant identify reasonable objectives, milestones, or measures to track progress? Are the proposed management and staffing plans clear, realistic, and sufficient to carry out the project? Is the applicant willing to meet with NIC, at a minimum, as indicated in the solicitation for this cooperative agreement? Is the proposed budget realistic, does it provide sufficient cost detail/narrative, and does it represent good value relative to the anticipated results? Does the application include a chart that aligns the budget with project activities along a timeline with, at minimum, quarterly benchmarks? In terms of program value, is the estimated cost reasonable in relation to work performed and project products?

Organizational and Project Staff Background: 30 Points.

Do the skills, knowledge, and expertise of the organization and the proposed project staff demonstrate a high level of competency to carry out the tasks? Does the applicant/organization have the necessary experience and organizational capacity to carry out all goals of the project? If consultants and/or partnerships are proposed, is there a reasonable justification for their inclusion in the project and a clear structure to ensure effective coordination?

Note: NIC will NOT award a cooperative agreement to an applicant who does not have a Dun and Bradstreet Database Universal Number (DUNS) and is not registered in the Central Contractor Registry (CCR). Applicants can obtain a DUNS number at no cost by calling the dedicated toll-free request line at 800-333-0505. Applicants who are sole proprietors should dial 866-705-5711 and select option #1.

Applicants may register in the CCR online at the CCR Web site: http://www.ccr.gov. Applicants can also review a CCR handbook and worksheet at this Web site.

Number of Awards: One.

NIC Opportunity Number: 11AD04.

Catalog of Federal Domestic Assistance Number: 16.601.

Executive Order 12372: This project is not subject to the provisions of Executive Order 12372.

Morris L. Thigpen,
Director, National Institute of Corrections.

[FR Doc. 2011-18409 Filed 7-20-11; 8:45 am]

BILLING CODE 4410-36-P